DEPARTMENT OF TRANSPORTATION

Federal Aviation Administration

14 CFR Part 71

[Docket No. FAA-2019-0530; Airspace Docket No. 19-ASO-14]

RIN 2120-AA66

Amendment of the Class E Airspace and Establishment of Class E Airspace; Huntsville, AL

AGENCY: Federal Aviation Administration (FAA), DOT.

ACTION: Final rule.

SUMMARY: This action amends the Class E surface airspace and the Class E airspace extending upward from 700 feet above the surface and establishes a Class E airspace area designated as an extension to a Class C surface area at Huntsville International-Carl T. Jones Field, Huntsville, AL. This action is due to an airspace review caused by the decommissioning of the Decatur VHF omnidirectional range (VOR) navigation aid, which provided navigation information for the instrument procedures at this airport, as part of the VOR Minimum Operational Network (MON) Program. The names of Huntsville International-Carl T. Jones Field, Redstone AAF, Pryor Field Regional Airport, and Huntsville Executive Tom Sharp Jr. Field and the geographic coordinates of Huntsville International-Carl T. Jones Field, Pryor Field Regional Airport, and Huntsville Executive Tom Sharp Jr. Field are also being updated to coincide with the FAA's aeronautical database. Airspace redesign is necessary for the safety and management of instrument flight rules (IFR) operations at this airport.

DATES: Effective 0901 UTC, December 5, 2019. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E surface airspace and the Class E airspace extending upward from 700 feet above the surface and establishes a Class E airspace area designated as an extension to a Class C surface area at Huntsville International-Carl T. Jones Field, Huntsville, AL, to support instrument flight rule operations at this airport.

History

The FAA published a notice of proposed rulemaking in the Federal Register (84 FR 33196; July 12, 2019) for Docket No. FAA-2019-0530 to amend the Class E surface airspace and the Class E airspace extending upward from 700 feet above the surface and establish a Class E airspace area designated as an extension to a Class C surface area at Huntsville International-Carl T. Jones Field, Huntsville, AL. Interested parties were invited to participate in this rulemaking effort by submitting written comments on the proposal to the FAA. No comments were received.

Class E airspace designations are published in paragraph 6002, 6003, and 6005, respectively, of FAA Order 7400.11D, dated August 8, 2019, and effective September 15, 2019, which is incorporated by reference in 14 CFR 71.1. The Class E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71:

Amends the Class E surface airspace at Huntsville International-Carl T. Jones Field, Huntsville, AL, by updating the city in the airspace legal description to Huntsville, AL (previously Huntsville International-Carl T. Jones Field, AL), to comply with a change to FAA Order 7400.2M, Procedures for Handling Airspace Matters; updates the geographic coordinates of the Huntsville International-Carl T. Jones Field; updates the names of Huntsville International-Carl T. Jones Field (previously Huntsville International-Carl T. Jones Field Airport) and Redstone AAF (previously Redstone Army Air Field) to coincide with the FAA's aeronautical database; and replaces the outdated term “Airport/Facility Directory” with “Chart Supplement”;

Establishes a Class E airspace area designated as an extension to a Class C surface area at Huntsville International-Carl T. Jones Field extending 1 mile each side of the 181° bearing from the Huntsville International-Carl T. Jones Field: RWY 36L-LOC extending from the 5-mile radius of Huntsville International-Carl T. Jones Field to 6.3 miles south of the Huntsville International-Carl T. Jones Field: RWY 36L-LOC;

And amends the Class E airspace extending upward from 700 feet above the surface to within a 7.5-mile radius (reduced from an 8.2-mile radius) of Huntsville International-Carl T. Jones Field; adds an extension 3 miles each side of the 001° bearing from Huntsville International-Carl T. Jones Field extending from the 7.5-mile radius to 12.3 miles north of the Huntsville International-Carl T. Jones Field; adds an extension 1.3 miles each side of the 181° bearing from the Huntsville International-Carl T. Jones Field: RWY 36L-LOC extending from the 7.5-mile radius to 8.3 miles south of the Huntsville International-Carl T. Jones Field: RWY 36L-LOC; updates the names of Huntsville International-Carl T. Jones Field (previously Huntsville International-Carl T. Jones Airport), Pryor Field Regional Airport (previously Pryor Field), Decatur, AL, and Huntsville Executive Tom Sharp Jr. Field (previously Huntsville Airport North), Huntsville, AL, to coincide with the FAA's aeronautical database; and updates the geographic coordinates of Huntsville International-Carl T. Jones Field, Pryor Field Regional Airport, and Huntsville Executive Tom Sharp Jr. Field to coincide with the FAA's aeronautical database.

This action is the result of an airspace review caused by the decommissioning of the Decatur VOR, which provided navigation information for the instrument procedures at these airports, as part of the VOR MON Program.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Areas Designated as a Surface Area

* * * * *

ASO AL E2 Huntsville, AL [Amended]

Huntsville International-Carl T. Jones Field, AL

(Lat. 34°38′14″ N, long. 86°46′30″ W)

Redstone AAF

(Lat. 34°40′43″ N, long. 86°41′05″ W)

Within a 5-mile radius of the Huntsville International-Carl T. Jones Field, excluding that airspace within a 1-mile radius of the Redstone AAF. This Class E airspace area is effective during the specific dates and times established in advance by a Notice to Airmen. The effective date and time will thereafter be continuously published in the Chart Supplement.

Paragraph 6003 Class E Airspace Areas Designated as an Extension to a Class C Surface Area

* * * * *

ASO AL E3 Huntsville, AL [Established]

Huntsville International-Carl T. Jones Field, AL

(Lat. 34°38′14″ N, long. 86°46′30″ W)

Huntsville International-Carl T. Jones Field: RWY 36L-LOC

(Lat. 34°39′20″ N, long. 86°46′55″ W)

That airspace extending upward from the surface within 1 mile each side of the 181° bearing from the Huntsville International-Carl T. Jones Field: RWY 36L-LOC extending from the 5-mile radius of the Huntsville International-Carl T. Jones Field to 6.3 miles south of the Huntsville International-Carl T. Jones Field: RWY 36L-LOC.

Paragraph 6005 Class E Airspace Areas Extending Upward From 700 Feet or More Above the Surface of the Earth

* * * * *

ASO AL E5 Huntsville, AL [Amended]

Huntsville International-Carl T. Jones Field, AL

(Lat. 34°38′14″ N, long. 86°46′30″ W)

Huntsville International-Carl T. Jones Field: RWY 36L-LOC

(Lat. 34°39′20″ N, long. 86°46′55″ W)

Redstone AAF

(Lat. 34°40′43″ N, long. 86°41′05″ W)

Pryor Field Regional Airport, AL

(Lat. 34°39′15″ N, long. 86°56′43″ W)

Huntsville Executive Tom Sharp Jr. Field, AL

(Lat. 34°51′34″ N, long. 86°33′27″ W)

That airspace extending upward from 700 feet above the surface within a 7.5-mile radius of Huntsville International-Carl T. Jones Field, and within 3 miles each side of the 001° bearing from Huntsville International-Carl T. Jones Field extending from the 7.5-mile radius to 12.3 miles north of Huntsville International-Carl T. Jones Field, and within 1.3 miles each side of the 181° bearing from the Huntsville International-Carl T. Jones Field: RWY 36L-LOC extending from the 7.5 mile radius of Huntsville International-Carl T. Jones Field to 8.3 miles south of the Huntsville International-Carl T. Jones Field: RWY 36L-LOC, and within a 9.5-mile radius of Redstone AAF, and within a 7-mile radius of Pryor Field Regional Airport, and within a 6.3-mile radius of Huntsville Executive Tom Sharp Jr. Field.

Issued in Fort Worth, Texas, on September 11, 2019.
Johanna Forkner,
Acting Manager, Operations Support Group, ATO Central Service Center.

[FR Doc. 2019-20111 Filed 9-17-19; 8:45 am]

BILLING CODE 4910-13-P